POSTAL RATE COMMISSION

Briefing on Regulatory Developments

AGENCY: Postal Rate Commission.

ACTION: Notice of regulatory briefing.

SUMMARY: A delegation from Britain's Postal Services Commission (Postcomm), the independent regulator of Consignia (formerly the British Post Office), will present a briefing on Wednesday, March 27, 2002, beginning at 10 a.m., in the Postal Rate Commission's hearing room. The topic is recent regulatory developments in the United Kingdom. The briefing is open to the public.

DATES: March 27, 2002, 10 a.m.

ADDRESSES: Postal Rate Commission (hearing room), 1333 H Street NW., Washington, DC 20268-0001, suite 300.

FOR FURTHER INFORMATION CONTACT: Stephen L. Sharfman, general counsel, Postal Rate Commission, 202-789-6820.

Steven W. Williams,
Secretary.

[FR Doc. 02-6534 Filed 3-18-02; 8:45 am]

BILLING CODE 7710-FW-M